DEPARTMENT OF COMMERCE

National Oceanic and Atmospheric Administration

Agency Information Collection Activities; Submission to the Office of Management and Budget for Review and Approval; Comment Request; Southeast Region Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 19, 2020, during a 60-day comment period. This notice allows for an additional 30 days for public comments.

Agency: National Oceanic and Atmospheric Administration (NOAA), Commerce.

Title: Southeast Region Logbook Family of Forms.

OMB Control Number: 0648-0016.

Form Number(s): None.

Type of Request: Regular submission—extension and revision of a current information collection.

Estimated Number of Respondents: 6,971.

Estimated Time per Response: Annual fixed-cost report, 45 minutes; Colombian fishery logbook, 18 minutes; discard logbook, 15 minutes; headboat, charter vessel, golden crab, reef fish-mackerel, economic cost per trip, wreckfish, and shrimp logbooks, 10 minutes; no-fishing report for golden crab, reef fish-mackerel, charter vessels, wreckfish and Colombian fisheries, 2 minutes; installation of a vessel monitoring unit, 5 hours; landing location request and power-down exemption request, 5 minutes; trip declaration, 2 minutes; and the proposed intercept survey, 15 minutes.

Estimated Total Annual Burden Hours: 69,165.

Needs and Uses: This request is for an extension and revision of a current information collection.

Participants in most federally managed fisheries in the NMFS Southeast Region are currently required to keep and submit catch and effort logbooks from their fishing trips. A subset of fishermen on these vessels also provide information on the species and quantities of fish, shellfish, marine turtles, and marine mammals that are caught and discarded or have interacted with the fishing gear. A subset of fishermen on these vessels also provide information about dockside fish and fuel prices, trip operating costs, and annual fixed costs.

The data are used for scientific analyses that support critical conservation and management decisions made by national and international fishery management organizations. Interaction reports are needed for fishery management planning and to help protect endangered species and marine mammals. Price and cost data will be used in analyses of the economic effects of existing and proposed regulations.

A final rule that implements requirements under the authority of the Magnuson-Stevens Fishery Conservation and Management Act (Magnuson-Stevens Act) will require a vessel owner or operator with a Federal charter vessel/headboat permit for Gulf of Mexico (Gulf) reef fish or Gulf coastal migratory pelagic (CMP) species to submit an electronic fishing report (also referred to as an electronic logbook) for each fishing trip (85 FR 44005, July 21, 2020). NMFS is designing and plans to implement an intercept survey in 2021 to support and validate the electronic logbooks submitted for the Gulf for-hire reporting program. These survey data are required to carry out provisions of the Magnuson-Stevens Act (16 U.S.C. 1801 et seq.), as amended, regarding conservation and management of fishery resources.

The survey would intercept captains (respondents) of Gulf federally-permitted charter vessels and headboats (for-hire vessels) in the aforementioned fisheries at verified landing locations that are randomly selected in Gulf counties to obtain information after fishing activity for each trip has occurred. The intercept survey is not a census of all electronically reported logbooks but instead would use a stratified random sampling protocol to select landing locations for port samplers to gather a representative sample. Respondents would be asked about vessel information, time and type of fishing, the number of anglers, and details of catch. Catch information would include species identification, number of fish, and disposition (i.e., fish kept and released). Length and weight measurements of species retained on fishing trips may also be collected if circumstances allow.

The purpose of the intercept survey is to validate the electronic logbooks submitted through the Gulf for-hire reporting program, the information collection for which are approved under OMB Control Number 0648-0016. The data collected from the intercept survey would be used to estimate non-reporting of fishing trips and reporting errors. Data from the intercept survey would be analyzed through statistical methods to provide accurate estimates of the total catch and effort. Without the intercept survey, the electronic logbook results would be left unchecked and could be erroneous due to no adjustments for non-reporting and misreporting. Erroneous fisheries information could mislead management and lead to inappropriate or unnecessary regulations or lead to lack thereof when needed.

The total for-hire catch and effort estimates obtained from the intercept survey, as well as from the Gulf for-hire reporting program are intended to be used on an ongoing basis by NMFS, regional fishery management councils, interstate marine fisheries commissions, and state natural resource management agencies to develop, implement, and monitor fishery management programs, per statutory requirements of the Magnuson-Stevens Act. Catch and effort statistics are fundamental for assessing the influence of fishing on any fish stock. Accurate estimates of the quantities taken, fishing effort, and both the seasonal and geographic distributions of the catch and effort are required for the development of regional management plans and policies.

Affected Public: Businesses or other for-profit organizations; individuals.

Frequency: Annual, periodic, and as needed.

Respondent's Obligation: Mandatory.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0016.

Sheleen Dumas,
Department PRA Clearance Officer, Office of the Chief Information Officer, Commerce Department.

[FR Doc. 2021-02165 Filed 2-1-21; 8:45 am]

BILLING CODE 3510-22-P